DEPARTMENT OF THE INTERIOR

Bureau of Indian Affairs

[189A2100DD/AAKC001030/A0A501010.999900 253G]

Indian Gaming; Approval of an Amendment to a Tribal-State Class III Gaming Compact in the State of Nevada

AGENCY: Bureau of Indian Affairs, Interior.

ACTION: Notice.

SUMMARY: The Washoe Tribe of Nevada and California negotiated the First Amended Compact between the Washoe Tribe of Nevada and California and the State of Nevada governing Class III gaming; this notice announces approval of the amended Compact.

DATES: This compact takes effect on January 18, 2018.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The First Amended Compact between the Washoe Tribe of Nevada and California and the State of Nevada replaces the previous compact. The First Amended Compact allows the Tribe to operate all forms of Class III gaming within its Indian Lands that may be lawfully operated in the State. The First Amended Compact between the Washoe Tribe of Nevada and California and the State of Nevada is approved. See 25 U.S.C. 2710(d)(8)(A).

Dated: December 27, 2017.
John Tahsuda,
Principal Deputy Assistant Secretary—Indian Affairs, Exercising the Authority of the Assistant Secretary—Indian Affairs.

[FR Doc. 2018-00793 Filed 1-17-18; 8:45 am]

BILLING CODE 4337-15-P